DEPARTMENT OF AGRICULTURE

Rural Utilities Service

Dry Fork Station and Hughes Transmission Project

AGENCY: Rural Utilities Service, USDA.

ACTION: Notice of availability of draft environmental impact statement and notice of public meeting.

SUMMARY: Notice is hereby given that the Rural Utilities Service (RUS), an agency delivering the United States Department of Agriculture (USDA) Rural Development Utilities Programs, hereinafter referred to as Rural Development, is issuing a Draft Environmental Impact Statement (EIS) for the Dry Fork Station and Hughes Transmission Project. The Draft EIS was prepared pursuant to the National Environmental Policy Act of 1969 (NEPA) (U.S.C. 4231 et seq.) in accordance with the Council on Environmental Quality (CEQ) regulations for implementing the procedural provisions of NEPA (40 CFR 1500-1508) and RUS regulations (7 CFR part 1794).

The purpose of the EIS is to evaluate the potential environmental impacts of and alternatives to the Basin Electric Power Cooperative, Inc. (Basin Electric) application for a Rural Development loan guarantee to construct and operate a coal-fired electric generation facility referred to as the Dry Fork Station, consisting of a single maximum net 385 Megawatt (MW) unit, at a site near Gillette, Wyoming, along with other proposed pollution controls collectively known as Best Available Control Technology (BACT). In addition, Basin Electric also proposes to construct and operate 136 miles of 230 kilovolt (kV) transmission line in Campbell and Sheridan counties, referred to as the Hughes Transmission Project. Basin Electric is not requesting a loan guarantee from Rural Development for this action. However, the Hughes Transmission Project is evaluated as a connected action for this EIS because the Dry Fork Station would interconnect with it if the Station is built.

DATES: With this notice, Rural Development invites any affected Federal, State, and local Agencies and other interested persons to comment on the Draft EIS. Written comments on this Draft EIS will be accepted for 45 days following publication of the Environmental Protection Agency's Notice of Availability for this Draft Environmental Impact Statement (DEIS) in the Federal Register. Rural Development will hold two (2) public meetings, on September 25, 2007, at Sheridan College, Watt Agricultural Center, 3059 Coffeen Avenue, Sheridan, Wyoming 82801; and, on September 26, 2007 at the CAM-PLEX Multi-Event Center, Central Pavilion, 1635 Reata Drive, Gillette, Wyoming 82718.

The public meetings will begin with an open house at 4:30 p.m., followed by a public hearing starting at 7 p.m. The hearing will include a presentation summarizing the findings of the DEIS and the opportunity for attendees to submit both oral and written comments. In accordance with 40 CFR Section 1503.1, Inviting Comments, the purpose of the meeting will be to solicit comments from interested parties on the Draft EIS for the Dry Fork Station and Hughes Transmission Project.

ADDRESSES AND FOR FURTHER INFORMATION CONTACT: To send comments or for more information, contact: Richard Fristik, USDA, Rural Development, Utilities Programs, 1400 Independence Avenue, SW., Mail Stop 1571, Room 2240, Washington, DC 20250-1571, telephone (202) 720-5093, fax (202) 690-0649, or e-mail: Richard.Fristik@wdc.usda.gov.

A copy of the DEIS can be obtained or viewed online at http://www.usda.gov/rus/water/ees/deis-dfs.htm. The files are in a Portable Document Format (.pdf); in order to review or print the document, users need to obtain a free copy of Acrobat® Reader® (© 2003 Adobe Systems Incorporated). The Acrobat® Reader® can be obtained from http://www.adobe.com/prodindex/acrobat/readstep.html.

Copies of the DEIS will also be available for public review during normal business hours at the following locations:

Campbell County Public Library, 2101 South 4J Road, Gillette WY 82718-5205, Phone: (307) 687-0009, FAX: (307) 686-4009.

Wright Branch Library—Campbell County Public Library System, 305 Wright Boulevard, Wright, WY 82732.

Sheridan County Fulmer Public Library, 35 W. Alger Street, Sheridan, WY 82801.

Clearmont Branch Library—Sheridan County Public Library, 1240 Front Street, Clearmont, WY 82835, Phone: (307) 758-4331.

Crook County Library, 414 Main Street, Sundance, WY 82729.

Moorcroft Public Library—Crook County Library System, 105 East Converse, Moorcroft, WY 82721.

Johnson County Library, 171 North Adams, Buffalo, WY 82834.

SUPPLEMENTARY INFORMATION: Basin Electric is a regional electric generation and transmission cooperative, a non-profit utility owned by its members. As such, it provides wholesale electricity and related services to 124 member systems in parts of Wyoming, North Dakota, South Dakota, Colorado, Minnesota, Iowa, Nebraska, Montana, and New Mexico. Basin Electric's service territory covers 430,000 square miles from the Canadian to the Mexican border. Under its charter, Basin Electric is required to meet the electric power needs of the cooperative member systems it serves. Due to the growing demand for power in the Powder River Basin (PRB), Basin Electric has determined that additional base load capacity is needed in the PRB.

After considering various ways to meet those future needs, Basin Electric identified the construction of a new coal-fired power plant near Gillette, as its best course of action to meet its electric energy and related service needs. An Alternative Evaluation Study and Site Selection Study examined alternative means of responding to the identified purpose and need for the project. Multiple power generation technologies and potential sites were screened using various criteria, and those remaining were then evaluated in terms of cost-effectiveness, technical feasibility, and environmental soundness. A similar process was followed for the Hughes Transmission Project.

Alternatives for power generation considered by Rural Development include no action, purchased power, load management, renewable energy sources, distributed generation, and alternative site locations. The three alternatives analyzed fully in the DEIS are the No Action Alternative, Proposed Action (Dry Fork Station at the Proposed Site, and the Hughes Transmission Line Proposed Alignment), and Alternative Action (building the power plant at the Alternative Site just over 1 mile from the Proposed Site, and routing the transmission line along the Alternate Alignment).

Under the No Action Alternative, the Dry Fork Station would not be constructed or operated to meet the projected 385-MW base load needs of Basin Electric; there would be no facilities constructed at either the Proposed or Alternative Sites. The Hughes Transmission Project, however, would still be constructed as Basin Electric is not requesting Rural Development funding for this action.

Basin Electric proposes to construct and operate a (maximum net rating) 385 MW (422 MW maximum gross) base load coal-fired power plant and transmission line interconnection near Gillette, Wyoming. Basin Electric proposes to construct a facility in this area due to the proximity of the fuel source in the PRB and delivery of the power to its membership. Basin Electric is requesting Rural Development to provide financing for the proposed project.

The transmission line would consist of approximately 136 miles of 230-kV transmission line that will connect the Hughes Substation east of Gillette, Wyoming, to the Carr Draw Substation west of Gillette and a proposed substation northeast of Sheridan, Wyoming. The proposed schedule developed by Basin Electric would place the transmission line in operation by mid-2009, while the generating facility would be commercially operational by mid-2012.

The Proposed Action would have adverse but non-significant impacts on soils, water, air, biological resources, noise, transportation, farmland and land use, visual resources, cultural resources, human health and safety, and environmental justice. The Proposed Action would result in moderately beneficial socioeconomic impacts, including increased employment opportunities, total purchases of goods and services, and an increase in the tax base.

Utilizing the Alternative Dry Fork Station Site and Alternative Hughes Transmission Line Alignment would result in broadly similar impacts to those of the Proposed Action, with a slightly increased loss of vegetation, including 120 acres of good quality sagebrush habitat at the alternative power plant site, and slightly increased noise impacts due to the Alternative Site's proximity to a residential property. Adverse but non-significant impacts of the Alternative Site include those on soils, water, air, biological resources, noise, transportation, farmland and land use, visual resources, cultural resources, human health and safety, and environmental justice. Impacts to some biological resources would be minimally increased due to the slightly greater length of the Alternative Hughes Alignment. The Alternative Action would also result in moderately beneficial socioeconomic impacts, including increased employment opportunities, total purchases of goods and services, and an increase in the tax base.

James R. Newby,
Assistant Administrator, Electric Program, USDA/Rural Development/Utilities Programs.

[FR Doc. E7-17048 Filed 8-28-07; 8:45 am]

BILLING CODE 3410-15-P